DEPARTMENT OF COMMERCE

National Oceanic and Atmospheric Administration

50 CFR Part 679

[I.D. 022500C]

RIN 0648-AM29

Fisheries of the Exclusive Economic Zone Off Alaska; Rebuilding Overfished Fisheries

AGENCY: National Marine Fisheries Service (NMFS), National Oceanic and Atmospheric Administration (NOAA), Commerce.

ACTION: Notice of availability of an amendment to a fishery management plan; request for comments.

SUMMARY: The North Pacific Fishery Management Council (Council) has submitted for Secretarial review Amendment 11 to the Fishery Management Plan for the Bering Sea/Aleutian Islands King and Tanner Crabs (FMP). This amendment is necessary to implement a rebuilding plan to rebuild the overfished stock of Bering Sea Tanner crab. This action is intended to ensure that conservation and management measures continue to be based upon the best scientific information available and is intended to advance the Council's ability to achieve, on a continuing basis, the optimum yield from fisheries under its authority.

DATES: Comments on the amendment must be submitted on or before May 8, 2000.

ADDRESSES: Comments may be submitted to Sue Salveson, Assistant Regional Administrator, Sustainable Fisheries Division, Alaska Region, NMFS, P.O. Box 21668, Juneau, AK 99802-1668, Attn: Lori Gravel. Comments also may be sent via facsimile (fax) to 907-586-7465. Comments will not be accepted if submitted via e-mail or Internet. Courier or hand delivery of comments may be made to NMFS in the Federal Building, Room 453, Juneau, AK 99801.

Copies of Amendment 11 to the FMP, and the Environmental Assessment prepared for the amendment are available from the North Pacific Fishery Management Council, 605 West 4th Ave., Suite 306, Anchorage, AK 99501-2252; telephone 907-271-2809.

FOR FURTHER INFORMATION CONTACT: Gretchen Harrington, 907-586-7228 or gretchen.harrington@noaa.gov.

SUPPLEMENTARY INFORMATION: NMFS declared the Bering Sea stock of Tanner (Chionoecetes bairdi) crab overfished on March 3, 1999, because the spawning stock biomass was below the minimum stock size threshold defined in Amendment 7 to the FMP (64 FR 11390). Amendment 7 specified objective and measurable criteria for identifying when all of the crab fisheries covered by the FMP are overfished or when overfishing is occurring. NMFS notified the Council once NMFS determined that the stock was overfished (64 FR 15308, March 31, 1999). The Council then took action to develop a rebuilding plan within 1 year. Amendment 11, the rebuilding plan, is an FMP amendment designed to accomplish the purposes outlined in the national standard guidelines to rebuild the overfished stock. Furthermore, Amendment 11 specifies a time period for rebuilding the stock intended to satisfy the Magnuson-Stevens Fishery Conservation and Management Act (Magnuson-Stevens Act).

The rebuilding plan approved by the Council in October 1999 contains the following three components to improve the status of this stock: A harvest strategy, bycatch control measures, and habitat protection measures. The rebuilding plan is estimated to allow the Bering Sea Tanner crab stock to rebuild, with a 50 percent probability, in 10 years. The stock will be considered “0rebuilt” when the stock reaches the maximum sustainable yield stock size level in 2 consecutive years. The revised harvest strategy should result in more spawning biomass, because more larger male crab would be conserved and fewer juveniles and females would die due to discarding. This higher spawning biomass would be expected to produce good year-classes when environmental conditions are favorable. Protection of habitat and reduction of bycatch will reduce mortality on juvenile crabs, thus allowing a higher percentage of each year-class to contribute to spawning (and future landings).

The Council prepared an Environmental Assessment (EA) for Amendment 11 that describes the management background, the purpose and need for action, the management alternatives, and the environmental and the socio-economic impacts of the alternatives. A copy of the EA can be obtained from the Council (see ADDRESSES).

The Magnuson-Stevens Act requires that each regional fishery management council submit each FMP or FMP amendment it prepares to NMFS for review and approval, disapproval, or partial approval. The Magnuson-Stevens Act also requires that NMFS, upon receiving an FMP or FMP amendment, immediately publish a notification in the Federal Register that the amendment is available for public review and comment. This action constitutes such notice for FMP Amendment 11. NMFS will consider the public comments received during the comment period in determining whether to approve this FMP amendment. To be considered, a comment must be received by close of business on the last day of the comment period (see DATES), regardless of the comment's postmark or transmission date.

Dated: March 1, 2000.
Bruce C. Morehead,
Acting Director, Office of Sustainable Fisheries, National Marine Fisheries Service.

[FR Doc. 00-5518 Filed 3-6-00; 8:45 am]

BILLING CODE 3510-22-F